FEDERAL COMMUNICATIONS COMMISSION

[DA 11-1708]

Consumer Advisory Committee

AGENCY: Federal Communications Commission.

ACTION: Notice.

SUMMARY: The Commission announces the next meeting date, time, and agenda of its Consumer Advisory Committee (“Committee”). The purpose of the Committee is to make recommendations to the Commission regarding matters within the jurisdiction of the Commission and to facilitate the participation of all consumers in proceedings before the Commission.

DATES: The next meeting of the Committee will take place on November 4, 2011, 9 a.m. to 4 p.m., at the Commission's Headquarters Building, Room TW-C305.

ADDRESSES: Federal Communications Commission, 445 12th Street, SW., Washington, DC 20554.

FOR FURTHER INFORMATION CONTACT: Scott Marshall, Consumer and Governmental Affairs Bureau, (202) 418-2809 (voice or TTY), or e-mail Scott.Marshall@fcc.gov.

SUPPLEMENTARY INFORMATION: This is a summary of the Commission's document DA 11-1708 released October 14, 2011, announcing the agenda, date and time of the Committee's next meeting.

Meeting Date, Time and Agenda

The next meeting of the Consumer Advisory Committee will take place on November 4, 2011, from 9 a.m. to 4 p.m. at the Commission's headquarters building, Room TW-C305, 445 12th Street, SW., Washington, DC 20554.

At its November 4, 2011 meeting, it is expected that the Committee will consider a recommendation from its USF Working Group regarding the Lifeline Linkup programs and a recommendation from its Consumer Empowerment Working Group regarding cramming. The Committee may also consider other recommendations from its working groups.

A limited amount of time will be available on the agenda for comments from the public. Alternatively, Members of the public may send written comments to: Scott Marshall, Designated Federal Officer of the Committee at the address provided above.

The meeting is open to the public and the site is fully accessible to people using wheelchairs or other mobility aids. Sign language interpreters, open captioning, assistive listening devices, and Braille copies of the agenda and handouts will be provided on site.

Meetings are also broadcast live with open captioning over the Internet from the FCC Live web page at http://www.fcc.gov/live/.

Simultaneous with the webcast, the meeting will be available through Accessible Event, a service that works with your web browser to make presentations accessible to people with disabilities. You can listen to the audio and use a screen reader to read displayed documents. You can also watch the video with open captioning. The website to access Accessible Event is http://accessibleevent.com. The web page prompts for an Event Code which is, 005202376. To learn about the features of Accessible Event, consult its User's Guide at: http://accessibleevent.com/doc/user_guide/. Other reasonable accommodations for people with disabilities are available upon request. The request should include a detailed description of the accommodation needed and contact information. Please provide as much advance notice as possible; last minute requests will be accepted, but may be impossible to fill. Send an e-mail to fcc504@fcc.gov or call the Consumer and Governmental Affairs Bureau at 202-418-0530 (voice), 202-418-0432 (TTY).

Federal Communications Commission.
William D. Freedman,
Acting Deputy Chief, Consumer and Governmental Affairs Bureau.

[FR Doc. 2011-27103 Filed 10-21-11; 8:45 am]

BILLING CODE 6712-01-P